FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 25, 2009.

A. Federal Reserve Bank of Boston (Richard Walker, Community Affairs Officer) P.O. Box 55882, Boston, Massachusetts 02106-2204:

1. Warbury Pincus Private Equity X, L.P., and Warbury Pincus X Partners, L.P., and their controlling affiliates which consist of, Warburg Pincus X, L.P., general partner of notificants, Warbury Pincus and Co., Warburg Pincus Partners, LLC, Warburg Pincus X, LLC, and Warburg Pincus LLC; to acquire additional voting shares of Webster Financial Corporation, Waterbury, Connecticut and thereby indirectly acquire Webster Bank, National Association, Waterbury, Connecticut.

B. Federal Reserve Bank of St. Louis (Glenda Wilson, Community Affairs Officer) 411 Locust Street, St. Louis, Missouri 63166-2034:

1. Thomas H. Smith, Melinda G. Smith and Kerry A. Smith, all of Lawrenceburg, Kentucky; to acquire control of Century Bancshares, Inc., Lawrenceburg, Kentucky and thereby indirectly acquire voting shares of Century Bank of Kentucky, Inc., Lawrenceburg, Kentucky.

Board of Governors of the Federal Reserve System, August 7, 2009.
Robert deV. Frierson,
Deputy Secretary of the Board.

[FR Doc. E9-19301 Filed 8-11-09; 8:45 am]

BILLING CODE 6210-01-S